DEPARTMENT OF AGRICULTURE

Forest Service

North Kennedy-Cottonwood Stewardship Project, Boise National Forest, Gem and Valley Counties, ID

AGENCY: Forest Service, USDA.

ACTION: Notice of Intent to Prepare an Environmental Impact Statement.

SUMMARY: The Emmett Ranger District of the Boise National Forest will prepare an environmental impact statement (EIS) for a resource management project within the Squaw Creek drainage. The entire project area is within the Kennedy and Pine Creek subwatersheds, which are tributaries to Squaw Creek. The project area is located about 50 miles north of Boise, Idaho.

The Forest Service invites written comments and suggestions on the scope of the analysis. The agency also hereby gives notice of the environmental analysis and decisionmaking process that will occur on the proposal so interested and affected Federal, State, tribal, and local agencies, as well as individuals and organizations are aware of how they may participate and contribute to the final decision. The information received will be used in preparing a final EIS.

DATES: Written comments concerning the proposed project should be postmarked within 30 days from the date of publication of this announcement in the Federal Register.

ADDRESSES: Comments should be addressed to John Erickson, District Ranger, Emmett Ranger District, 1805 Highway 16, Emmett, ID 83617.

FOR FURTHER INFORMATION CONTACT: terry Hardy, Project Team Leader, by telephone at 208-373-4235.

SUPPLEMENTARY INFORMATION: Proposed Action: Two primary objectives have been identified for the project: (1) modify travel and access management in the North Kennedy-Cottonwood project area by improving road conditions and decreasing the open road density. These actions would decrease big game vulnerability, restore fish habitat connectivity, and reduce sediment delivery from roads to streams while enhancing motorized recreational vehicle opportunities, and (2) restore seral, shade intolerant species (e.g., ponderosa pine) by adjusting tree stocking levels, stand structure, and species composition to conditions more consistent with the long-term disturbance regimes characteristic of the North Kennedy-Cottonwood project area. These action would promote the late- and early-seral forest structures that have declined within the project area and reduce the current and future stand susceptibility to forest insects.

The Proposed Action would eliminate yearlong travel by full-size motorized vehicles on 21 miles of roads, designate and sign 16 miles of roads as multiple-use to promote safe operation of motorized all-terrain vehicles (ATVs), decommission 2.5 miles of classified roads, reconstruct approximately 7 miles of classified roads to facilitate harvest activities, and replace/remove three culverts that are barriers to fish passage. Approximately 1 mile of unclassified roads would be improved to provide temporary access to facilitate harvest activities; these roads would be closed and revegetated upon completion of management activities.

The Proposed Action provides for vegetation management on approximately 4,500 acres in the 8,570-acre project area. The Proposed Action would employ a variety of silvicultural prescriptions that utilize commercial timber harvest and precommercial thinning. Silvicultural prescriptions for the proposed action are shaded fuel break (120 acres), commercial/precommercial thinning (3,380 acres), shelterwood regeneration (450 acres), and improvement (360 acres). Timber would be harvested using ground-based and skyline yarding systems. In addition, approximately 200 acres would be planted with seedlings to ensure desired species are established in a timely manner.

Preliminary Issues: A March 2001 scoping letter generated the following:

Issue 1: Too many open roads invite 4x4 vehicles and ATVs to drive off designated roads and harass wildlife. All roads that are either not graveled or a main access route should be closed after use. If roads are closed after use, big game security and vulnerability would be improved and the area will recover more quickly than if the public has too much access to keep the area disturbed.

Issue 2: Administrative road closures, as applied in the past, have been ineffective. Reclosing rather than obliterating, ineffectively closed roads will only prolong the ecological detriment associated with roads and illegal access. In addition, proposed road reconstruction, especially on those roads involving stream crossings, will not be adequate to substantially decrease sediment to area streams. Road obliteration/decommissioning of roads would be more effective in eliminating future risks to water quality and wildlife.

Possible Alternatives to the Proposed Action: The following alternatives to the proposed action have been discussed thus far and will be considered in the draft environmental impact statement: a no action alternative; a second action alternative that increases the miles of roads in a yearlong closure status and increases miles of roads decommissioned.

Decisions to be Made: The Boise National Forest supervisor will decide the following: (1) Should roads be closed, decommissioned and/or reconstructed within the North Kennedy-Cottonwood Stewardship project area at this time; and if so, where within the project area, and how many miles of road should be treated; (2) based on these management decisions for roads status, which culverts should be replaced or removed to provide habitat connectivity for aquatic species; and (3) should commercial thinning, precommercial thinning and timber harvest be conducted within the project area; and if so, where within the project area and how many acres.

Public Involvement and Comments: Written comments concerning the proposed project should be postmarked within 30 days from the day after publication of this announcement in the Federal Register.

Comments received in response to this solicitation, including the names and addresses of those who comment, will be considered part of the public record on this proposal and will be available to public inspection. Comments submitted anonymously will be accepted and considered; however, those who submit anonymous comments will not have standing to appeal the subsequent decision under 36 CFR 215 or 217. Additionally, pursuant to 7 CFR 1.27(d), any person may request the agency to withhold a submission from the public record by showing how the Freedom of Information Act (FOIA) permits such confidentiality. Persons requesting such confidentiality should be aware that, under FOIA, confidentiality might be granted in only limited circumstances, such as to protect trade secrets. The Forest Service will inform the requester of the agency's decision regarding the request for confidentially, and where the request is denied, the agency will return the submission and notify the requester the comments may be resubmitted with or without name and address within 10 days.

Schedule: The draft EIS is anticipated to be available for public review and comment in June 2002, the final EIS is anticipated to be available in September 2002.

The comment period on the draft EIS will be 45 days from the date the Environmental Protection Agency publishes the notice of availability in the Federal Register.

The Forest Service believes, at this early stage, it is important to give reviewers notice of several court rulings related to public participation in the environmental review process. First, reviewers of the draft EIS must structure their participation in the environmental review of the proposal so it is meaningful and alerts an agency to the reviewer's position and contentions, (Vermont Yankee Nuclear Corp. v. NRDC, 435 U.S. 519, 533 (1978)). Also, environmental objections that could be raised at the draft EIS stage but that are not raised until after completion of the final EIS may be waived or dismissed by the courts, (City of Angoon v. Hodel, 803 F.2d 1016, 1022 (Ninth Circuit 1986) and Wisconsin Heritages, Inc. v. Harris, 490 F. Supp. 1334, 1338 (E.D. Wis. 1980)). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft EIS should be specific as possible. It is also helpful if comments refer to specific pages or chapters of the draft statement. Comments may also address the adequacy of the draft EIS or the merits of the alternatives formulated and discussed in the statement. Reviewer may wish to refer to the Council on Environmental Quality Regulations for implementing the procedural provisions of the National Environmental Policy Act at 40 CFR 1503.3 in addressing these points.

Responsible Official: David D. Rittenhouse, Forest Supervisor, Boise National Forest is the responsible official, 1249 South Vinnell Way, Suite 200, Boise, Idaho 83709.

Dated: May 17, 2002.
Paul W. Bryant,
Acting Forest Supervisor.

[FR Doc. 02-13743 Filed 5-31-02; 8:45 am]

BILLING CODE 3410-11-M